DEPARTMENT OF AGRICULTURE

Forest Service

Information Collection; Optional Ethnicity Survey

AGENCY: Forest Service, USDA.

ACTION: Notice: request for comment.

SUMMARY: In accordance with the Paperwork Reduction Act of 1995, the Forest Service is seeking comments from all interested individuals and organizations on a new information collection entitled, Optional Ethnicity Survey.

DATES: Comments must be received in writing on or before February 12, 2007 to be assured of consideration. Comments received after that date will be considered to the extent practicable.

ADDRESSES: Comments concerning this notice should be addressed to Senior, Youth and Volunteer Programs (SYVP) United States Department of Agriculture, Forest Service, Director, Senior, Youth and Volunteer Programs, P.O. 96090 (Mail Stop 1136), Washington, DC 20090-6090.

Comments also may be submitted via facsimile to (703) 605-5115 or by e-mail to: syvp/wo@fs.fed.us.

The public may inspect comments received at the USDA, Forest Service, Office of the Director, Senior, Youth and Volunteer Programs, Room 1010, 1621 North Kent Street, Arlington, VA 22209 during normal business hours. Visitors are encouraged to call ahead to (703) 605-4854 to facilitate entry to the building.

FOR FURTHER INFORMATION CONTACT: Ransom Hughes, Senior, Youth and Volunteer Programs at 703-605-4854. Individuals who use TDD may call the Federal Relay Service (FRS) at 1-800-877-8339, 24 hours a day, every day of the year, including holidays.

SUPPLEMENTARY INFORMATION: Title: Optional Ethnicity Survey.

OMB Number: 0596-NEW.

Type of Request: New.

Abstract: This new information collection will assist in the compilation of the Senior Youth and Volunteer Programs (SYVP) Accomplishment Report. The figures reported regarding participant ethnicity need to be verified and accurate, as the information in the SYVP report is included in the Report of the Forest Service, shared with Congress. SYVP program coordinators will collect information on the ethnicity of each program participant annually, and each SYVP participant will have the opportunity to respond. Inability to collect the information will result in an inability to validate the SYVP Accomplishment Report.

Estimate of Annual Burden: 2 minutes (.0333 hour).

Type of Respondents: SYVP participants.

Estimated Annual Number of Respondents: 100,000.

Estimated Annual Number of Responses per Respondent: 1.

Estimated Total Annual Burden on Respondents: 3,333.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 7, 2006.
Irving W. Thomas,
Associate Deputy Chief.

[FR Doc. E6-21310 Filed 12-13-06; 8:45 am]

BILLING CODE 3410-11-P